DEPARTMENT OF ENERGY

Federal Energy Regulatory Commission

[Docket No. ER01-136-000, et al.]

Dynegy Midwest Generation, Inc., et al.; Electric Rate and Corporate Regulation Filings

October 20, 2000.

Take notice that the following filings have been made with the Commission:

1. Dynegy Midwest Generation, Inc.

[Docket No. ER01-136-000]

Take notice that on October 16, 2000, Dynegy Midwest Generation, Inc. (DMG), tendered for filing a Negotiated Tier 1 Memorandum (NT1M) under the Power Purchase Agreement between DMG and Illinois Power Company, filed pursuant to Section 205 of the Federal Power Act and Part 35 of the Commission's regulations.

DMG requests that the Commission accept the NT1M for filing with an effective date of January 1, 2001.

Comment date: November 6, 2000, in accordance with Standard Paragraph E at the end of this notice.

2. Tenaska Alabama II Partners, L.P.

[Docket No. ER01-137-000]

Take notice that on October 16, 2000, Tenaska Alabama II Partners, L.P., 1044 North 115th Street, Suite 400, Omaha, Nebraska 68154 (Tenaska Alabama II), which will own and operate a natural gas-fired electric generating facility to be constructed in Autauga County, Alabama, tendered for filing with the Federal Energy Regulatory Commission its initial FERC Electric Rate Schedule No. 1 which will enable Tenaska Alabama II to engage in the sale of electric energy and capacity at market-based rates.

Comment date: November 6, 2000, in accordance with Standard Paragraph E at the end of this notice.

3. Dynegy Danskammer, L.L.C.

[Docket No. ER01-140-000]

Take notice that on October 17, 2000, Dynegy Danskammer, L.L.C. (Danskammer), tendered for filing pursuant to Rule 205, 18 CFR 385.205, a petition for waivers and blanket approvals under various regulations of the Commission and for an order accepting its FERC Electric Tariff No. 1 to become effective as of the date specified by the Commission. Danskammer also filed certain long term agreements designated as separate service agreements under its FERC Electric Tariff No. 1.

Danskammer intends to sell energy, capacity and ancillary services at wholesale at rates, terms, and conditions to be mutually agreed to with the purchasing party. Danskammer's FERC Electric Tariff No. 1 provides for the sale of electric energy, capacity and ancillary services at agreed prices.

Comment date: November 6, 2000, in accordance with Standard Paragraph E at the end of this notice.

4. Dynegy Roseton, L.L.C.

[Docket No. ER01-141-000]

Take notice that on October 17, 2000, Dynegy Roseton, L.L.C. (Roseton), tendered for filing pursuant to Rule 205, 18 CFR 385.205, a petition for waivers and blanket approvals under various regulations of the Commission and for an order accepting its FERC Electric Tariff No. 1 to become effective as of the date specified by the Commission. Roseton also filed certain long term agreements designated as separate service agreements under its FERC Electric Tariff No. 1.

Roseton intends to sell energy, capacity and ancillary services at wholesale at rates, terms, and conditions to be mutually agreed to with the purchasing party. Roseton's FERC Electric Tariff No. 1 provides for the sale of electric energy, capacity and ancillary services at agreed prices.

Comment date: November 7, 2000, in accordance with Standard Paragraph E at the end of this notice.

5. Ameren Energy Marketing Company

[Docket No. ER01-142-000]

Take notice that on October 17, 2000, Ameren Energy Marketing Company tendered for filing a Master Power Purchase and Sale Agreement and Confirmation Letter between Ameren Energy Marketing Company and Central Illinois Light Company. Ameren asserts that the purpose of the Agreement is to permit Ameren to make sales of capacity and energy at market based rates to Central Illinois Light Company pursuant to Ameren's Market Based Rate Power Sales Tariff filed in Docket No. ER00-816-000.

Comment date: November 7, 2000, in accordance with Standard Paragraph E at the end of this notice.

6. Wisconsin Public Service Corporation

[Docket No. ER01-143-000]

Take notice that on October 17, 2000, Wisconsin Public Service Corporation (WPSC), tendered for filing its revised full requirements service tariff, Rate Schedule W-1A for Full Requirements Service to Wholesale Customers (“Rate Schedule W-1A”). WPSC is revising its currently effective tariff, Rate Schedule W-1, to include unbundled generation service to accommodate new customers who desire to purchase full requirements service from WPSC.

WPSC requests an effective date of December 17, 2000.

Copies of the filing were served upon WPSC's Rate Schedule W-1A customers, Stratford Water & Electric, the Public Service Commission of Wisconsin and the Michigan Public Service Commission.

Comment date: November 7, 2000, in accordance with Standard Paragraph E at the end of this notice.

7. Madison Gas and Electric Company

[Docket No. ER01-149-000]

Take notice that on October 16, 2000, Madison Gas and Electric Company (MGE), tendered for filing a service agreement under MGE's Market-Based Power Sales Tariff with Wisconsin Electric Power Company.

MGE requests the agreement be effective on the date it was filed with the FERC.

Comment date: November 6, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-27762 Filed 10-27-00; 8:45 am]

BILLING CODE 6717-01-P